DEPARTMENT OF AGRICULTURE

Foreign Agricultural Service

Notice of Request for Extension and Revision of a Currently Approved Information Collection

AGENCY: Foreign Agricultural Service, USDA.

ACTION: Notice and request for comments.

SUMMARY: In accordance with the Paperwork Reduction Act of 1995, this notice announces that the Foreign Agricultural Service (FAS) intends to request an extension and revision to a currently approved information collection procedure for the Trade Adjustment Assistance for Farmers program as described in 7 CFR Part 1580.

DATES: Comments should be received on or before May 16, 2006 to be assured consideration.

ADDRESSES: Mail or deliver comments to Robert H. Curtis, Director, Import Policies and Programs Division, Foreign Agricultural Service, U.S. Department of Agriculture, STOP 1021, 1400 Independence Avenue, SW., Washington, DC 20250-1021, (202) 720-2916.

FOR FURTHER INFORMATION CONTACT: Robert H. Curtis, at the address above, or telephone at (202) 720-2916, or e-mail at robert.curtis@fas.usda.gov.

SUPPLEMENTARY INFORMATION: Title: Trade Adjustment Assistance for Farmers.

OMB Number: 0551-0040.

Expiration Date of Approval: August 31, 2006.

Type of Request: Revision to and extension of a currently approved information collection.

Abstract: The Trade Act of 2002 established the Trade Adjustment Assistance for Farmers (TAA) program. Under this program, the Department of Agriculture provides technical assistance and cash benefits to eligible producers of raw agricultural commodities when the Administrator, Foreign Agricultural Service (FAS), determines that increased imports have contributed importantly to a specific price decline over 5 preceding marketing years. The regulation 7 CFR Part 1580 established the procedure by which producers of raw agricultural commodities can petition (form FAS-930 or a reasonable substitute) for certification of eligibility and apply for technical assistance and adjustment payments. To receive consideration for TAA certification, petitioners must supply the information required by 7 CFR 1580.201. Once a petition has been certified, individuals covered by the certification must apply for TAA benefits in accordance with 7 CFR 1580.301. The specific information required on an application (form FSA-229) must be collected from those who wish to receive program benefits. The number of respondents has doubled since the original Paperwork Reduction Act was filed in August 2003. The doubling of respondents is a result of a higher number of applications being processed for program benefits than was anticipated during initial program development. In addition, a new Part D was added to form FSA-229.

Estimate Number of Respondents: 1,000.

Estimate Number of Responses per Respondent: 1.

Estimated Burden of Hours per Response: 14 hours.

Estimated Total Annual Burden on Respondents: 14,000 hours.

Copies of this information collection can be obtained from Kimberly Chisley, the Agency Information Collection Coordinator, at (202) 720-2568.

Request for Comments

The public is invited to submit comments and suggestions to the above address regarding the accuracy of the burden, estimate, ways to minimize the burden, including through the use of automated collection techniques or other forms of information technology, or any other aspect of this collection of information. Comments on the issues covered by the Paperwork Reduction Act are most useful to OMB if received within 30 days of publication of the Notice and Request for Comments, but must be submitted no later than 60 days from the date of publication to be assured of consideration. All responses to this notice will be summarized and included in the request for OMB approval. All comments will also become a matter of public record. Persons with disabilities who require an alternative means for communication of information (Braille, large print, audiotape, etc.) should contact the USDA Target Center at (202) 720-2600 (voice and TDD).

Dated: February 27, 2006.
Lyle Sebranek,
Acting Administrator, Foreign Agricultural Service.

[FR Doc. 06-2547 Filed 3-16-06; 8:45 am]

BILLING CODE 3410-10-M